SMALL BUSINESS ADMINISTRATION

[Disaster Declaration #16145 and #16146; SOUTH CAROLINA Disaster Number SC-00060]

Presidential Declaration Amendment of a Major Disaster for Public Assistance Only for the State of South Carolina

AGENCY: U.S. Small Business Administration.

ACTION: Amendment 1.

SUMMARY: This is an amendment of the Presidential declaration of a major disaster for Public Assistance Only for the State of South Carolina (FEMA-4464-DR), dated 09/30/2019.

Incident: Hurricane Dorian.

Incident Period: 08/31/2019 through 09/06/2019.

DATES: Issued on 11/05/2019.

Physical Loan Application Deadline Date: 11/29/2019.

Economic Injury (EIDL) Loan Application Deadline Date: 06/30/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of South Carolina, dated 09/30/2019, is hereby amended to include the following areas as adversely affected by the disaster.

Primary Counties: Allendale.

All other information in the original declaration remains unchanged.

(Catalog of Federal Domestic Assistance Number 59008)

James Rivera,
Associate Administrator for Disaster Assistance.

[FR Doc. 2019-24622 Filed 11-12-19; 8:45 am]

BILLING CODE 8026-03-P